DEPARTMENT OF THE INTERIOR

Bureau of Land Management

[MT-926-02-1420-BJ]

Survey Plat Filings

AGENCY: Bureau of Land Management, Montana State Office, Interior.

ACTION: Notice of Intent for Filing of Plat of Survey.

SUMMARY: The plats of the following described land are scheduled to be officially filed in the Montana State Office, Billings, Montana, thirty (30) days from the date of this publication.

SUPPLEMENTARY INFORMATION:

Black Hills Meridian, South Dakota

T. 1 S., R. 13 E.

The plat, in four sheets, representing the dependent resurvey of a portion of the east boundary, a portion of the subdivisional lines, the adjusted original meanders of the former right bank of the South Fork of the Cheyenne River through sections 13, 23, 24, 27, and 28, and the adjusted original meanders of an island in the South Fork of the Cheyenne River in sections 27 and 28, and the subdivision of sections 13, 23, 24, and 26, the survey of the meanders of the present right bank of the South Fork of the Cheyenne River, downstream, in sections 13, 27, and 28, the median line of an abandoned channel in the South Fork of the Cheyenne River in sections 27 and 28, and a certain division of accretion line in section 27, Township 1 South, Range 13 East, Black Hills Meridian, South Dakota, was accepted July 11, 2002.

T. 2 S., R. 13 E.

The plat, in two sheets, representing the dependent resurvey of a portion of the west boundary (Third Guide Meridian East) through Township 2 South, between Ranges 12 and 13 East, a portion of the east boundary, a portion of the north boundary, a portion of the subdivisional lines, and the adjusted original meanders of the former right bank of the South Fork of the Cheyenne River through section 6, and the subdivision of sections 1, 4, and 6, the survey of the meanders of the present right bank of the South Fork of the Cheyenne River through a portion of section 6, and a division of accretion line in section 6, Township 2 South, Range 13 East, Black Hills Meridian, South Dakota, was accepted July 11, 2002.

T. 1 S., R. 14 E.

The plat, in three sheets, representing the dependent resurvey of a portion of the west boundary, a portion of the subdivisional lines, and the adjusted original meander line of the former left bank of the South Fork of the Cheyenne River through portions of sections 7, 8, and 18, and the subdivision of section 18, the survey of portions of the meander line of the present left bank of the South Fork of the Cheyenne River through sections 7, 8, and 18, and a division of accretion line in section 8, Township 1 South, Range 14 East, Black Hills Meridian, South Dakota, was accepted July 11, 2002.

T. 1 N., R. 14 E.

The plat, in four sheets, representing the dependent resurvey of a portion of the Black Hills Base Line through Ranges 13 and 14 East, portions of the east and west boundaries, a portion of the subdivisional lines, and a portion of the adjusted original meander lines of the right and left banks of the South Fork of the Cheyenne River through sections 31 and 32, and the subdivision of sections 1, 6, 10, 17, 18, 29, 31, and 32, the survey of a portion of the meander lines of the present right and left banks of the South Fork of the Cheyenne River, and certain division of accretion lines in sections 31 and 32, Township 1 North, Range 14 East, Black Hills Meridian, South Dakota, was accepted July 11, 2002.

T. 2 N., R. 14 E.

The plat, in three sheets, representing the dependent resurvey of portions of the south, east, west, and north boundaries, a portion of the subdivisional lines, and a portion of the adjusted original meanders of the right bank of the South Fork of the Cheyenne River, and the subdivision of sections 1, 2, 3, 10, 11, 14, 22, 31, and 35, and the survey of the meanders of the present left bank of the South Fork of the Cheyenne River, downstream, through a portion of section 11, sections 12 and 13, and a portion of section 35, Township 2 North, Range 14 East, Black Hills Meridian, South Dakota, was accepted July 11, 2002.

T. 3 N., R. 14 E.

The plat, in three sheets, representing the dependent resurvey of a portion of the subdivisional lines and the subdivision of sections 11, 15, 21, and 22, Township 3 North, Range 14 East, Black Hills Meridian, South Dakota, was accepted July 11, 2002.

T. 3 N., R. 15 E.

The plat, in three sheets, representing the dependent resurvey of a portion of the east boundary, a portion of the west boundary, and a portion of the subdivisional lines, and the subdivision of sections 1, 2, 6, 11, and 24, and the survey of the meanders of the present right bank of the South Fork of the Cheyenne River, upstream, through a portion of section 6, Township 3 North, Range 15 East, Black Hills Meridian, South Dakota, was accepted July 11, 2002.

T. 4 N., R. 14 E.

The plat, in two sheets, representing the dependent resurvey of a portion of the subdivisional lines and the subdivision of section 1, Township 4 North, Range 14 East, Black Hills Meridian, South Dakota, was accepted July 11, 2002.

T. 4 N., R. 15 E.

The plat, in four sheets, representing the dependent resurvey of the south boundary, a portion of the east boundary, the west boundary, a portion of the subdivisional lines, and the adjusted original meanders of the former left bank through sections 7 and 18, the former right bank through section 31, upstream, and an island, former lot 9, in section 31 of the South Fork of the Cheyenne River, and the subdivision of certain sections and the survey of certain partition lines and a portion of the medial line of the abandoned channel between an island, former lot 9, in section 31, and the former right bank of the South Fork of the Cheyenne River, certain division of accretion 4 lines and meanders of the present left and right banks of the South Fork of the Cheyenne River, upstream and downstream, Township 4 North, Range 15 East, Black Hills Meridian, South Dakota, was accepted July 11, 2002.

T. 5 N., R. 13 E.

The plat, in three sheets, representing the dependent resurvey of a portion of the First Standard Parallel North, through Range 13 East, a portion of the Third Guide Meridian East through Township 5 North between Ranges 12 and 13 East, a portion of the east boundary, a portion of the north boundary, and a portion of the subdivisional lines, and the subdivision of sections 2, 3, 6, 8, 10, 11, 12, 13, 15, 22, and 24, the survey of a division of accretion line and the meander line of the present left bank of the Belle Fourche River, downstream, through portions of section 22, Township 5 North, Range 13 East, Black Hills Meridian, South Dakota, was accepted July 11, 2002.

T. 5 N., R. 14 E.

The plat, in four sheets, representing the dependent resurvey of a portion of the First Standard Parallel North, through Range 14 East, a portion of the east boundary, a portion of the north boundary, a portion of the subdivisional lines, and the adjusted original meanders of the right bank of the Belle Fourche River, through sections 1 and 12, and the subdivision of sections 1, 6, 12, 21, 22, and 23, the survey of certain division of accretion lines and certain meanders of the present left and right banks of the Belle Fourche River, Township 5 North, Range 14 East, Black Hills Meridian, South Dakota, was accepted July 11, 2002.

T. 5 N., R. 15 E.

The plat, in four sheets, representing the dependent resurvey of a portion of the First Standard Parallel North, through Range 15 East, the east boundary, a portion of the north boundary, and a portion of the subdivisional lines, and the subdivision of sections 4, 5, 6, 8, 9, 10, 11, 12, 13, 14, 15, 21, 22, 23, 24, 26, 32, 34, and 35, the dependent resurvey of certain adjusted original meanders of the South Fork of the Cheyenne and Belle Fourche Rivers in Townships 5 and 6 North, Ranges 15 East, the survey of certain division of accretion lines in Township 5 North, Range 15 East and the survey of certain meanders of the present banks of the South Fork of the Cheyenne and Belle Fourche Rivers in Townships 5 and 6 North, Ranges 15 East, Black Hills Meridian, South Dakota, was accepted July 11, 2002.

T. 5 N., R. 16 E.

The plat, in four sheets, representing the dependent resurvey of a portion of the First Standard Parallel North, through Range 16 East, a portion of the east boundary, a portion of the north boundary, a portion of the subdivisional lines, and the adjusted original meanders of the left bank, upstream, through sections 2 and 3 and the right bank, downstream, through section 2, of the Cheyenne River, and the subdivision of sections 2, 3, 4, 5, 7, 8, 9, 10, 15, 19, 23, 24, 25, 31, and 32, and the survey of a certain division of accretion line and the meander lines of the present right bank of the Cheyenne River through a portion of section 4, Township 5 North, Range 16 East, Black Hills Meridian, South Dakota, was accepted July 11, 2002.

The survey was executed at the request of the District Manager (Field Manager), Miles City District (Miles City Field Office) and was necessary to identify lands administered by the Bureau of Land Management.

Copies of the preceding described plats and related field notes will be immediately placed in the open files and will be available to the public as a matter of information.

If protests against these surveys, as shown on these plats, are received prior to the dates of the official filings, the filings will be stayed pending consideration of the protests.

These particular plats will not be officially filed until the day after all protests have been accepted or dismissed and become final or appeals from the dismissal affirmed.

FOR FURTHER INFORMATION CONTACT: Robert L. Brockie, Cadastral Surveyor, Branch of Cadastral Survey, Bureau of Land Management, 5001 Southgate Drive, P.O. Box 36800, Billings, Montana 59107-6800, telephone (406) 896-5121 or (406) 896-5009.

Dated: July 18, 2002.
Michael T. Birtles,
Acting Chief Cadastral Surveyor, Division of Resources.

[FR Doc. 02-19186 Filed 7-29-02; 8:45 am]

BILLING CODE 4310-DN-P